DEPARTMENT OF COMMERCE

National Oceanic and Atmospheric Administration

[RTID 0648-XD306]

September Management Track Peer Review Meeting

AGENCY: National Marine Fisheries Service (NMFS), National Oceanic and Atmospheric Administration (NOAA), Commerce.

ACTION: Notice of public meeting.

SUMMARY: NMFS will convene the Assessment Oversight Panel (AOP) to convene the Management Track Assessment Peer Review Meeting for the purpose of reviewing Red Hake (North and South), Acadian Redfish, Skate Complex, Atlantic Mackerel, Northern Windowpane Flounder, and Spiny Dogfish stocks. The Management Track Assessment Peer Review is a formal scientific peer-review process for evaluating and presenting stock assessment results to managers for fish stocks in the offshore U.S. waters of the northwest Atlantic. Assessments are prepared by the lead stock assessment analyst and reviewed by an independent panel of stock assessment experts. The public is invited to attend the presentations and discussions between the review panel and the scientists who have participated in the stock assessment process.

DATES: The public portion of the Management Track Assessment Peer Review Meeting will be held from September 18, 2023 to September 20, 2023. The meeting will conclude on September 20, 2023 at 4:30 p.m. Eastern Standard Time. Please see SUPPLEMENTARY INFORMATION for the daily meeting agenda.

ADDRESSES: The meeting will be held via Google Meet:

https://meet.google.com/qza-zvku-oig

+1 252-987-4102

PIN: 732 891 507#

FOR FURTHER INFORMATION CONTACT: Alexander Dunn, 508-495-2195, alexander.dunn@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about management track assessment peer review, please visit the NEFSC web page at https://www.fisheries.noaa.gov/new-england-mid-atlantic/population-assessments/management-track-stock-assessments.

Daily Meeting Agenda—Management Track Peer Review Meeting

The agenda is subject to change; all times are approximate and may be changed at the discretion of the Peer Review Chair.

Monday, September 18, 2023
Time | Subject | Presenter
9 a.m.-9:15 a.m | Welcome/Logistics/Conduct of Meeting | Michele Traver, Russ Brown, Adrian Jordaan, Chair.
9:15 a.m.-10:45 a.m | Red Hake (North and South) | Toni Chute.
| Discussion/Questions | Panel.
10:45 a.m.-11 a.m | Break
11 a.m.-12 p.m | Red Hake (North and South) cont | Toni Chute.
| Discussion/Questions | Panel.
12 p.m.-12:15 p.m | Morning Wrap Up Summary/Discussion | Panel.
12:15 p.m.-12:30 p.m | Public Comment | Public.
12:30 p.m.-1:30 p.m | Lunch
1:30 p.m.-3 p.m. | Acadian Redfish | Brian Linton.
| Discussion/Questions | Panel.
3 p.m.-3:15 p.m | Break
3:15 p.m.-4:30 p.m | Acadian Redfish cont | Brian Linton.
| Discussion/Questions | Panel.
4:30 p.m.-4:45 p.m | Afternoon Wrap Up Summary/Discussion | Panel.
4:45 p.m.-5 p.m | Public Comment | Public.
5 p.m. | Adjourn

Tuesday, September 19, 2023
Time | Subject | Presenter
9 a.m.-9:05 a.m | Welcome/Logistics | Michele Traver, Adrian Jordaan, Chair.
9:05 a.m.-10:30 a.m | Skate Complex | Kathy Sosebee.
| Discussion/Questions | Panel.
10:30 a.m.-10:45 a.m | Break
10:45 a.m.-12 p.m | Skate Complex cont | Kathy Sosebee.
| Discussion/Questions | Panel.
12 p.m.-12:15 p.m | Morning Wrap Up Summary/Discussion | Panel.
12:15 p.m.-12:30 p.m | Public Comment | Public.
12:30 p.m.-1:30 p.m | Lunch
1:30 p.m.-3:30 p.m | Atlantic Mackerel | Kiersten Curti.
| Discussion/Questions | Panel.
3:30 p.m.-3:45 p.m | Break
3:45 p.m.-5 p.m | Northern Windowpane Flounder | Toni Chute.
| Discussion/Questions | Panel.
5 p.m.-5:15 p.m | Afternoon Wrap Up Summary/Discussion | Panel.
5:15 p.m.-5:30 p.m | Public Comment | Public.
5:30 p.m | Adjourn

Wednesday, September 20, 2023
Time | Subject | Presenter
9 a.m.-9:05 a.m | Welcome/Logistics | Michele Traver, Adrian Jordaan, Chair.
9:05 a.m.-12 p.m | Spiny Dogfish | Dvora Hart.
| Discussion/Questions | Panel.
12 p.m.-12:15 p.m | Morning Wrap Up Summary/Discussion | Panel.
12:15 p.m.-12:30 p.m | Public Comment | Public.
12:30 p.m.-1:30 p.m | Lunch
1:30 p.m.-4:30 p.m | Report Writing | Panel.
4:30 p.m | Adjourn

The meeting is open to the public; however, during the `Report Writing' session on Friday, September 20th, the public should not engage in discussion with the Peer Review Panel.

Special Accommodations

This meeting is physically accessible to people with disabilities. Special requests should be directed to Alexander Dunn, via email alexander.dunn@NOAA.gov.

Dated: August 28, 2023.
Jennifer M. Wallace,
Acting Director, Office of Sustainable Fisheries, National Marine Fisheries Service.

[FR Doc. 2023-18881 Filed 8-30-23; 8:45 am]

BILLING CODE 3510-22-P